DEPARTMENT OF HOMELAND SECURITY

Coast Guard

33 CFR Part 165

[Docket No. USCG-2010-0062]

Safety Zone; Fleet Week Maritime Festival, Pier 66, Elliott Bay; Seattle, WA

AGENCY: Coast Guard, DHS.

ACTION: Notice of enforcement of regulation.

SUMMARY: The Coast Guard announces that the Fleet Week Maritime Festival's Pier 66 Safety Zone in Elliott Bay, WA will be in effect from 8 a.m. until 8 p.m. on July 30, 2014. In addition to enforcing the safety zone during the parade of ships and aerial demonstration, the safety zone will only be enforced thirty minutes prior and thirty minutes following the conclusion of the parade of ships and aerial demonstration. This action is necessary to promote safety on navigable waters. During the enforcement period, entry into, transit through, mooring, or anchoring within this zone is prohibited unless authorized by the Captain of the Port, Puget Sound or his designated representative.

DATES: The regulations in 33 CFR 165.1330 will be in effect from 8 a.m. until 8 p.m. on July 30, 2014.

FOR FURTHER INFORMATION CONTACT: If you have questions on this notice, call or email LTJG Johnny Zeng, Sector Puget Sound Waterways Management Division, Coast Guard; telephone (206) 217-6175, SectorPugetSoundWWM@uscg.mil.

SUPPLEMENTARY INFORMATION: The safety zone for the Fleet Week Maritime Festival in 33 CFR 165.1330 will be in effect from 8 a.m. until 8 p.m. on July 30, 2014. In addition to enforcing the safety zone during the parade of ships and aerial demonstration, the safety zone will only be enforced thirty minutes prior and thirty minutes following the conclusion of the parade of ships and aerial demonstration.

In accordance with the general regulations in 33 CFR Part 165, Subpart C, no vessel operator may enter, transit, moor, or anchor within this safety zone thirty minutes prior to the beginning, during and thirty minutes following the conclusion of the Parade of Ships. For the purpose of this rule, the Parade of Ships includes both the pass and review of the ships near Pier 66 and the aerial demonstrations immediately following the pass and review. The Captain of the Port may be assisted by other federal, state, or local agencies as needed.

In order to transit through this safety zone, authorization must be granted by the Captain of the Port, Puget Sound or his designated representative. All vessel operators desiring entry into this safety zone may request authorization by contacting either the on-scene U.S. Coast Guard patrol craft on VHF Ch 13 or Ch 16, or Coast Guard Sector Puget Sound Joint Harbor Operations Center (JHOC) via telephone at (206) 217-6002. Requests shall indicate the reason why movement within the safety zone is necessary and the vessel's arrival and/or departure facility name, pier and/or berth. Vessel operators granted permission to enter this safety zone will be escorted by the on-scene patrol until no longer within the safety zone.

This notice is issued under authority of 33 CFR 165.1330 and 5 U.S.C. 552(a). In addition to this notice in the Federal Register, the Coast Guard will provide the maritime community with advanced notification of the safety zone via the Local Notice to Mariners and marine information broadcasts. If the Captain of the Port determines that the regulated area need not be enforced for the full duration stated in this notice, they may use a Broadcast Notice to Mariners to grant general permission to enter the regulated area.

Dated: July 16, 2014.
M. W. Raymond,
Captain, U.S. Coast Guard, Captain of the Port, Puget Sound.

[FR Doc. 2014-17603 Filed 7-24-14; 8:45 am]

BILLING CODE 9110-04-P